DEPARTMENT OF COMMERCE

International Trade Administration

[A-533-810]

Stainless Steel Bar From India: Preliminary Results of Antidumping Duty Administrative Review

AGENCY: Import Administration, International Trade Administration, Department of Commerce.

SUMMARY: The Department of Commerce is conducting an administrative review of the antidumping duty order on stainless steel bar from India. The period of review is February 1, 2007, through January 31, 2008. This review covers imports of stainless steel bar from one producer/exporter: Venus Wire Industries Pvt. Ltd. We preliminarily find that sales of the subject merchandise have been made below normal value. If these preliminary results are adopted in our final results, we will instruct U.S. Customs and Border Protection to assess antidumping duties on appropriate entries. Interested parties are invited to comment on these preliminary results. We will issue the final results no later than 120 days from the date of publication of this notice.

DATES: Effective Date: March 6, 2009.

FOR FURTHER INFORMATION CONTACT: Brandon Farlander or Scott Holland, AD/CVD Operations, Office 1, Import Administration, International Trade Administration, U.S. Department of Commerce, 14th Street and Constitution Avenue, NW., Washington DC 20230; telephone (202) 482-0182 or (202) 482-1279, respectively.

SUPPLEMENTARY INFORMATION:

Background

On February 21, 1995, the Department of Commerce (“Department”) published in the Federal Register the antidumping duty order on stainless steel bar (“SSB”) from India. See Antidumping Duty Orders: Stainless Steel Bar from Brazil, India and Japan, 60 FR 9661 (February 21, 1995). On February 4, 2008, the Department published a notice in the Federal Register providing an opportunity for interested parties to request an administrative review of the antidumping duty order on SSB from India for the period of review (“POR”) February 1, 2007, through January 31, 2008. See Antidumping or Countervailing Duty Order, Finding, or Suspended Investigation; Opportunity To Request Administrative Review, 73 FR 6477 (February 4, 2008).

On February 11, 2008, the Department received a timely request for review from Ambica Steels Limited (“Ambica”). On February 29, 2008, we received a timely request from domestic interested parties Carpenter Technology Corp.; Crucible Specialty Metals, a division of Crucible Materials Corp.; Electralloy Co., a G.O. Carlson, Inc. company; and Valbruna Slater Stainless, Inc. (collectively, “Petitioners”), for a review of Venus Wire Industries Pvt. Ltd. (“Venus”). On March 31, 2008, in accordance with section 751(a) of the Tariff Act of 1930, as amended (“the Act”), we initiated an administrative review on Ambica and Venus. See Initiation of Antidumping and Countervailing Duty Administrative Reviews, Request for Revocation in Part, and Deferral of Administrative Review, 73 FR 16837 (March 31, 2008) (“Initiation Notice”).

On March 31, 2008, the Department issued antidumping duty questionnaires to Ambica and Venus. Venus submitted its responses to the antidumping questionnaire in May and July 2008. After analyzing these responses, we issued supplemental questionnaires to Venus to clarify or correct information contained in the initial questionnaire responses. We received timely responses to these questionnaires. Petitioners submitted comments on the questionnaire responses in June, July, November, and December 2008, January and February 2009.

On May 16, 2008, Ambica withdrew its request for an administrative review. On June 24, 2008, the Department partially rescinded this administrative review with respect to Ambica. See Stainless Steel Bar from India: Notice of Partial Rescission of Antidumping Duty Administrative Review, 73 FR 35657 (June 24, 2008).

On October 24, 2008, we extended the time limit for completing the preliminary results of this review to no later than March 2, 2009, in accordance with section 751(a)(3)(A) of the Act. See Stainless Steel Bar from India: Extension of Time Limit for the Preliminary Results of the Antidumping Duty Administrative Review, 73 FR 63435 (October 24, 2008).

On January 8, 2009, the Department met with counsel for Petitioners to discuss certain sales and cost of production (“COP”) issues.

On January 21, 2009, Petitioners alleged that Venus withheld information regarding certain U.S. sales, the role played by Venus' staff on U.S. sales, and Venus' costs. According to Petitioners, these flaws should lead the Department to reject Venus' data and, because of Venus' lack of cooperation, Petitioners ask the Department to apply total adverse facts available in accordance with section 776(b) of the Act. See Petitioners' January 21, 2009, submission at 10-15.

Specifically, Venus reported that AMS Specialty Steel (“AMS”) is an unaffiliated U.S. customer and that Venus did not pay commissions to AMS, nor was AMS a sales agent for Venus' sales of subject merchandise during the POR. Petitioners claim that these statements by Venus are false and that Venus does have a relationship with AMS, including that of commissioned agent. In addition, Petitioners contend that Venus incorrectly reported sales to AMS, as the U.S. customer, when it should have reported the first U.S. sale to an unaffiliated U.S. customer. Because of this error, according to Petitioners, Venus has reported wrong sales data to the Department for Venus' sales through AMS. See Petitioners' January 21, 2009, submission at 2-4.

Petitioners additionally contend that all of Venus' U.S. sales should be classified as constructed export price (“CEP”) sales and not export price (“EP”) sales because Venus' U.S. employee served as more than a communications link between Venus and its U.S. customers. See Petitioners' January 21, 2009, submission at 5.

Finally, Petitioners contend that Venus misrepresented its production process by withholding certain critical information concerning its COP. See Petitioners' January 21, 2009, submission at 7.

Petitioners presented support for their allegations which cannot be further described here because of its proprietary nature. See Petitioners' January 21, 2009, submission at Attachment 1 and Enclosure 3.

Information in Venus' responses contradicts these claims. Specifically, Venus has stated that AMS was its U.S. customer and that it sold to AMS, not through AMS; that AMS is not affiliated with Venus; that Venus negotiated the material terms of sale with AMS and not with AMS' U.S. customers; that, in most cases, Venus knew the name of AMS' customers only because AMS had to provide the names for technical compliance, such as material specification, marking, and labeling, but that Venus did not negotiate the selling price from AMS to its U.S. customer; that AMS was not an agent for Venus and that Venus did not pay commissions to AMS for subject merchandise during the POR; and that Venus did not have an agreement with AMS for AMS to be Venus' agent, representative, or broker for subject merchandise during the POR. See Venus' December 31, 2008, supplemental questionnaire response (“December 31, 2008, supplemental”) at 18, which was refiled on January 14, 2009, with corrected bracketing and Venus' February 4, 2009, supplemental questionnaire response at 1.

Regarding whether all U.S. sales should have been reported on a CEP basis, Venus reported that the employee was paid a fixed remuneration per month and certain actual expenses, such as telephone and travel, and that the employee visited Venus' customers, received inquiries and orders for stainless steel bright bar and stainless steel wire rod and sent this material to Venus in India for negotiation and execution. See Venus' October 24, 2008, supplemental questionnaire response (“October 24, 2008, supplemental”) at 20 and 22. Venus affirmed that all material terms of sale are concluded by Venus, that Venus issues sales invoices and collects payment, and that the employee did not have the authority to decide the material terms of sale, such as price, payment terms, and quantities. See id. at 21, and Venus' December 31, 2008, supplemental at 15.

Regarding cost, Venus has described its production process and denies Petitioners' claims. See Venus' January 12, 2009, supplemental questionnaire response at 10.

We have carefully reviewed Petitioners' claims, Venus' responses, as well as all other evidence on the record. Based on the current record, we preliminarily find that Venus properly reported its U.S. sales and cost information to the Department. Thus, we preliminarily determine that the application of facts available is not warranted. Because of the proprietary nature of the information submitted by Petitioners in their allegation, a full discussion of these issues are presented in the preliminary results calculation memorandum. See Memorandum from the Team to the File “Preliminary Results Calculation Memorandum for Venus Wire Industries Pvt. Ltd.,” dated March 2, 2009 (“Venus Preliminary Results Calculation Memorandum”).

Scope of the Order

Imports covered by the order are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of the order. See Memorandum from Team to Barbara E. Tillman, “Antidumping Duty Orders on Stainless Steel Bar from India and Stainless Steel Wire Rod from India: Final Scope Ruling,” dated May 23, 2005, which is on file in the Central Records Unit in room 1117 of the main Department building (“CRU”). See also Notice of Scope Rulings, 70 FR 55110 (September 20, 2005).

Period of Review

The POR is February 1, 2007, through January 31, 2008.

Applicable Statute

Unless otherwise indicated, all citations to the Act are references to the provisions effective January 1, 1995, the effective date of the amendments made to the Act by the Uruguay Round Agreements Act. In addition, all references to the Department's regulations are to 19 CFR part 351 (2008).

Affiliation

Precision Metals

In the 2005-2006 antidumping duty administrative review of SSB from India, the Department determined that Venus and Precision Metals were affiliated within the meaning of section 771(33) of the Act, and also that the two companies should be treated as a single entity for the purposes of that administrative review. See Notice of Final Results and Final Partial Rescission of Antidumping Duty Administrative Review: Stainless Steel Bar from India, 72 FR 51595, 51596 (September 10, 2007).

During the current 2007-2008 administrative review, the Department again examined Venus' relationship with Precision Metals. Based on Venus' representations that its corporate affiliation relationship with Precision Metals remained the same during the POR as during the 2005-2006 administrative review, the Department hereby continues to treat Venus and Precision Metals as a single entity in the current proceeding. See Memorandum from Brandon Farlander to the File, “Relationship of Venus Wire Industries Pvt. Ltd. and Precision Metals,” dated January 9, 2009, which is on file in the CRU.

Sieves Manufacturing Pvt. Ltd.

On November 14, 2008, Petitioners alleged that, because Venus reported that its affiliate, Sieves Manufacturing Pvt. Ltd. (“Sieves”), is a manufacturer of SSB and made sales of the subject merchandise in the home market, Venus and Sieves should be treated as a single entity under 19 CFR 351.401(f). As discussed in the Memorandum from Scott Holland to Susan Kuhbach, Office Director, “Whether to Treat Venus Wire Industries Pvt. Ltd. and Sieves Manufacturing Pvt. Ltd. as a Single Entity,” dated March 2, 2009, which is on file in the CRU, the Department finds that Venus and Sieves have met the criteria set forth under 19 CFR 351.401(f). Therefore, we preliminarily determine that Venus and Sieves should be treated as a single entity in this review. We intend to seek further information regarding the relationship of these companies and the types of merchandise sold by Sieves to use in the final results.

Fair Value Comparisons

To determine whether sales of SSB by Venus to the United States were made at less than normal value (“NV”), we compared export price (“EP”) to NV. See “Export Price” and “Normal Value” sections of this notice. Pursuant to section 777A(d)(2) of the Act, we compared the EPs of individual U.S. transactions to the weighted-average NV of the foreign-like product, where there were sales made in the ordinary course of trade, as discussed in the “Cost of Production Analysis” section, below.

Product Comparisons

In accordance with section 771(16) of the Act, we considered all products sold by the respondent in the comparison market covered by the description in the “Scope of the Order” section, above, to be foreign-like products for purposes of determining appropriate product comparisons to U.S. sales. In accordance with section 773(a)(1)(C)(ii) of the Act, in order to determine whether there was a sufficient volume of sales in the home market to serve as a viable basis for calculating NV, we compared the respondent's volume of home market sales of the foreign-like product to the volumes of its U.S. sales of the subject merchandise. See the “Normal Value” section, below, for further details.

We compared U.S. sales to monthly weighted-average prices of contemporaneous sales made in the home market based on the following criteria: (1) General type of finish; (2) grade; (3) remelting; (4) type of final finishing operation; (5) shape; and (6) size. This was consistent with our practice in the original investigation. See Preliminary Determination of Sales at Less than Fair Value and Postponement of Final Determination: Stainless Steel Bar From India, 59 FR 39733, 39735 (August 4, 1994); unchanged in the final, see Notice of Final Determination of Sales at Less Than Fair Value: Stainless Steel Bar from India, 59 FR 66915 (December 28, 1994). Where there were no home market sales of the foreign-like product that were identical in these respects to the merchandise sold in the United States, we compared U.S. products with the most similar merchandise sold in the home market based on the characteristics listed above, in that order of priority, made in the ordinary course of trade. Where there were no sales of identical or similar merchandise made in the ordinary course of trade in the comparison market, we compared U.S. sales to constructed value (“CV”).

Date of Sale

Pursuant to 19 CFR 351.401(i), the date of sale is normally the date of invoice unless satisfactory evidence is presented that the material terms of sale, price and quantity, are established on some other date. Venus reported that the material terms of sale can change up until the date of the invoice for both the home market and the U.S. market. See May 16, 2008, Section A Questionnaire Response (“AQR”) at A-14. Further, Venus provided sales documents that demonstrated that Venus experienced material changes in quantity sold that were outside of Venus' delivery tolerances for sales to the United States. For the home market, Venus provided sales documents that demonstrated that Venus experienced price changes and material changes in quantity sold that were outside of Venus' delivery tolerances. See AQR at Annexure A-4. Therefore, based on record evidence, we have used the date of invoice as the date of sale for Venus' sales to the United States and in the home market.

Export Price

For the price to the United States, we calculated EP in accordance with section 772 of the the Act. Section 772(a) of the Act defines EP as the price at which the subject merchandise is first sold before the date of importation by the producer or exporter outside of the United States to an unaffiliated purchaser in the United States or to an unaffiliated purchaser for exportation to the United States, as adjusted under section 772(c) of the Act.

We calculated EP for Venus because the merchandise was sold prior to importation by the exporter or producer outside the United States to the first unaffiliated purchaser in the United States, and because CEP methodology was not otherwise warranted. For Venus, we based EP on the packed, delivered duty paid, or cost insurance freight price to unaffiliated purchasers in the United States. We adjusted the reported gross unit price, where applicable, for early payment discounts and other discounts for weight shortages, short payments or quality claims. We made deductions for movement expenses in accordance with section 772(c)(2)(A) of the Act. These deductions included, where appropriate, freight incurred in transporting merchandise to the Indian port, domestic brokerage and handling, international freight, marine insurance, U.S. brokerage and handling, freight incurred in the United States, U.S. customs duties, and other transportation fees. See Venus Preliminary Results Calculation Memorandum.

Duty Drawback

Section 772(c)(1)(B) of the Act provides that EP or CEP shall be increased by among other things, “the amount of any import duties imposed by the country of exportation which have been rebated, or which have not been collected, by reason of the exportation of the subject merchandise to the United States.” The Department determines that an adjustment to U.S. price for claimed duty drawback is appropriate when a company can demonstrate that: (1) the “import duty and rebate are directly linked to, and dependent upon, one another;” and (2) “the company claiming the adjustment can show that there were sufficient imports of the imported raw materials to account for the drawback received on the exported product.” Rajinder Pipes, Ltd. v. United States, 70 F. Supp. 2d 1350, 1358 (Ct. Int'l Trade 1999).

Venus claimed a duty drawback adjustment based on its participation in the Indian government's Duty Entitlement Passbook Program. The Department finds that Venus has not provided substantial evidence on the record to establish the necessary link between the import duty and the reported duty drawback. Therefore, because Venus has failed to meet the Department's requirements, we are denying Venus' request for a duty drawback adjustment for the preliminary results. See Venus Preliminary Results Calculation Memorandum.

Normal Value

A. Home Market Viability

Section 773(a)(1) of the Act directs that NV be based on the price at which the foreign-like product is sold in the home market, provided that the merchandise is sold in sufficient quantities (or value, if quantity is inappropriate) and that there is no particular market situation that prevents a proper comparison with the EP. Section 773(a)(1)(B)(ii)(II) of the Act contemplates that quantities (or values) will normally be considered insufficient if they are less than five percent of the aggregate quantity (or value) of sales of the subject merchandise to the United States.

In order to determine whether there was a sufficient volume of sales in the home market to serve as a viable basis for calculating NV, we compared Venus' volume of home market sales of the foreign-like product to its volume of U.S. sales of the subject merchandise, in accordance with section 773(a)(1)(C) of the Act. Venus reported that its home market sales of SSB during the POR were more than five percent of its sales of SSB to the United States. See July 7, 2008, section B questionnaire response (“BQR”) at B-4. Therefore, Venus” home market was viable for purposes of calculating NV. Accordingly, Venus reported its home market sales. To derive NV for Venus, we made the adjustments detailed in the “Calculation of Normal Value Based on Home Market Prices” section below.

B. Level of Trade

Section 773(a)(1)(B)(i) of the Act states that, to the extent practicable, the Department will calculate NV based on sales at the same level of trade (“LOT”) as the EP. Sales are made at different LOTs if they are made at different marketing stages (or their equivalent). See 19 CFR 351.412(c)(2). Substantial differences in selling activities are a necessary, but not sufficient, condition for determining that there is a difference in the stages of marketing. Id.; see also Notice of Final Determination of Sales at Less Than Fair Value: Certain Cut-to-Length Carbon Steel Plate From South Africa, 62 FR 61731, 61732 (November 19, 1997). In order to determine whether the comparison sales were at different stages in the marketing process than the U.S. sales, we reviewed the distribution system in each market (i.e., the “chain of distribution”),⁴ including selling functions,⁵ class of customer (“customer category”), and the level of selling expenses for each type of sale. Pursuant to section 773(a)(1)(B)(i) of the Act, in identifying LOTs for EP and comparison market sales (i.e., NV based on either comparison market or third country prices),⁶ we consider the starting prices before any adjustments. When the Department is unable to match U.S. sales to sales of the foreign-like product in the comparison market at the same LOT as the EP, the Department may compare the U.S. sale to sales at a different LOT in the comparison market. In comparing EP sales at a different LOT in the comparison market, where available data make it practicable, we make an LOT adjustment under section 773(a)(7)(A) of the Act.

⁴ The marketing process in the United States and comparison market begins with the producer and extends to the sale to the final user or customer. The chain of distribution between the two may have many or few links, and each respondent's sales occur somewhere along this chain. In performing this evaluation, we considered the respondent's narrative response to properly determine where in the chain of distribution the sale occurs.

⁵ Selling functions associated with a particular chain of distribution help us to evaluate the LOT(s) in a particular market. For purposes of these preliminary results, we have organized the common selling functions into four major categories: sales process and marketing support, freight and delivery, inventory and warehousing, and quality assurance/warranty services.

⁶ Where NV is based on CV, we determine the NV LOT based on the LOT of the sales from which we derive selling expenses, general and administrative expenses (“G&A”) and profit for CV, where possible.

We obtained information from Venus regarding the marketing stages involved in making the reported home market and U.S. sales, including a description of the selling activities performed for each channel of distribution. Our LOT findings are summarized below.

Venus reported one channel of distribution and a single LOT in both the home market and the U.S. market. Further, Venus claimed that its sales in both markets were at the same LOT and Venus did not request a LOT adjustment. See BQR at B-29, and section C questionnaire response at C-30.

Venus reported that it sells to end users, distributors, and trading companies at the same LOT in the home market. Also, Venus reported that it sells to distributors and trading companies at the same LOT in the U.S. market. Venus reported that its prices did not vary based on channel of distribution and/or customer category. See AQR at A-13.

We examined the information reported by Venus regarding its sales processes for its home market and U.S. market sales, including customer categories and the type and level of selling activities performed. See AQR at A-13. Specifically, we considered the extent to which, for instance, sales process/marketing support, freight/delivery, inventory maintenance, and quality assurance/warranty service varied with respect to the different customer categories and channels of distribution across the markets. We concluded that the home market channel of distribution comprises one LOT. See id. We evaluated the U.S. channel of distribution and concluded that it also comprises one LOT. Next, we compared the U.S. LOT to the home market LOT. See id. Venus reported that it sold to similar categories of customer in both the home market and the U.S. market. See id. Venus reported similar levels of freight/delivery in both the home market and U.S. market. See id. Further, Venus reported no inventory maintenance in either the home market or the U.S. market, and reported that it provided no warranty services in any of its channels of distribution. See id. The only minor difference that Venus reported was in sales process/marketing support, where Venus indicated that it advertises and promotes its U.S. market sales, but not the home market sales. See id.

Based on the foregoing, we preliminarily find that Venus' sales in the home market and the United States were made at the same LOT.

C. Cost of Production Analysis

In the most recently completed segment of the proceeding at the time of initiation, the Department found that Venus made sales in the comparison market at prices below the cost of producing the merchandise and excluded such sales from the calculation of NV. Therefore, the Department determined that there were reasonable grounds to believe or suspect that SSB sales were made in the comparison market at prices below the COP in this administrative review for Venus. See section 773(b)(2)(A)(ii) of the Act. As a result, the Department initiated a COP inquiry for Venus.

1. Calculation of COP

In accordance with section 773(b)(3) of the Act, we calculated the COP based on the sum of the cost of materials and fabrication for the foreign-like product, plus amounts for G&A expenses, financial expenses, and comparison market packing costs, where appropriate. We relied on the COP data submitted by Venus except where noted below.

2. Results of the COP Test

Pursuant to section 773(b)(2)(C) of the Act, where less than 20 percent of a respondent's sales of a given product were at prices less than the COP, we did not disregard any below-cost sales of that product because we determined that the below-cost sales were not made in substantial quantities. Where 20 percent or more of a respondent's sales of a given product during the POR were at prices less than the COP, we determined such sales of that model were made in substantial quantities within an extended period of time in accordance with section 773(b)(2)(B) and (C) of the Act. Because we compared prices to the POR-average COP, we also determined that such sales were not made at prices which would permit recovery of all costs within a reasonable period of time, in accordance with section 773(b)(2)(D) of the Act. In such cases, for Venus, we disregarded these below-cost sales of a given product and used the remaining sales as the basis for determining NV, in accordance with section 773(b)(1) of the Act.

D. Calculation of Normal Value Based on Home Market Prices

We calculated NV based on ex-factory or delivered prices to unaffiliated customers in the home market. We made adjustments for differences in packing in accordance with sections 773(a)(6)(A) and 773(a)(6)(B)(i) of the Act, and we deducted movement expenses consistent with section 773(a)(6)(B)(ii) of the Act. In addition, where applicable, we made adjustments for differences in cost attributable to differences in physical characteristics of the merchandise pursuant to section 773(a)(6)(C)(ii) of the Act, as well as for differences in circumstances of sale in accordance with section 773(a)(6)(C)(iii) of the Act and 19 CFR 351.410. We also made adjustments, in accordance with 19 CFR 351.410(e), for indirect selling expenses incurred on comparison market or U.S. sales where commissions were granted on sales in one market but not in the other. Specifically, where commissions were granted in the U.S. market but not in the comparison market, we made a downward adjustment to NV for the lesser of (1) the amount of the commission paid in the U.S. market, or (2) the amount of indirect selling expenses incurred in the comparison market. If commissions were granted in the comparison market but not in the U.S. market, we made an upward adjustment to NV following the same methodology. We did not make further adjustments to Venus' home market data.

Currency Conversion

We made currency conversions into U.S. dollars in accordance with section 773A(a) of the Act based on the exchange rates in effect on the dates of the U.S. sales as reported by the Federal Reserve Bank.

Preliminary Results of the Review

For the firms listed below, we find that the following weighted-average percentage margin exists for the period February 1, 2007, through January 31, 2008:

Exporter/manufacturer | Margin (percent)
Venus Wire Industries Pvt. Ltd./Precision Metals | 0.51

Public Comment

The Department will disclose the calculations performed within five days of publication of this notice in accordance with 19 CFR 351.224(b). Pursuant to 19 CFR 351.310(c), any interested party may request a hearing within 30 days of publication of this notice. Any hearing, if requested, will be held 42 days after the publication of this notice, or the first workday thereafter. Issues raised in the hearing will be limited to those raised in the case and rebuttal briefs. Pursuant to 19 CFR 351.309(c), interested parties may submit case briefs within 30 days of the date of publication of this notice. Rebuttal briefs, which must be limited to issues raised in the case briefs, may be filed not later than 35 days after the date of publication of this notice. See 19 CFR 351.309(d). Parties who submit case briefs or rebuttal briefs in this proceeding are requested to submit with each argument: (1) A statement of the issue, and (2) a brief summary of the argument with an electronic version included. The Department will publish the final results of this administrative review, including the results of our analysis of issues raised in the briefs, no later than 120 days after publication of these preliminary results.

Assessment Rates

If these preliminary results are adopted in the final results, we will instruct U.S. Customs and Border Protection (“CBP”) to assess antidumping duties on all appropriate entries. The Department will issue appropriate assessment instructions directly to CBP 15 days after publication of the final results of review in the Federal Register.

Pursuant to 19 CFR 351.212(b)(1), for all sales made by the respondent for which it has reported the importer of record and the entered value of the U.S. sales, we have calculated importer-specific assessment rates based on the ratio of the total amount of antidumping duties calculated for the examined sales to the total entered value of those sales. Where the respondent did not report the entered value for U.S. sales, we have calculated importer-specific assessment rates for the merchandise in question by aggregating the dumping margins calculated for all U.S. sales to each importer and dividing this amount by the total quantity of those sales.

To determine whether the duty assessment rates were de minimis (i.e., less than 0.50 percent) in accordance with the requirement set forth in 19 CFR 351.106(c)(2), we calculated importer-specific ad valorem rates based on the estimated entered value. Where the assessment rate is above de minimis, we will instruct CBP to assess duties on all entries of subject merchandise by that importer. Pursuant to 19 CFR 351.106(c)(2), we will instruct CBP to liquidate without regard to antidumping duties any entries for which the assessment rate is de minimis.

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see id.

Cash Deposit Requirements

The following cash deposit requirements will be effective upon completion of the final results of this administrative review for all shipments of SSB from India entered, or withdrawn from warehouse, for consumption on or after the publication date of the final results of this administrative review, as provided by section 751(a)(1) of the Act: (1) The cash deposit rate for the reviewed companies will be the rate established in the final results of this administrative review (except no cash deposit will be required if its weighted-average margin is de minimis); (2) if the exporter is not a firm covered in this review, but was covered in a previous review or the original less than fair value (“LTFV”) investigation, the cash deposit rate will continue to be the company-specific rate published for the most recent period; and (3) if neither the exporter nor the manufacturer is a firm covered in this or any previous reviews, or the original LTFV investigation, the cash deposit rate will be the rate established for the most recent period for the manufacturer of the merchandise; and (4) the cash deposit rate for all other manufacturers and/or exporters of this merchandise, shall be 12.45 percent, the all-others rate established in the LTFV investigation. See Notice of Final Determination of Sales at Less Than Fair Value: Stainless Steel Bar from India, 59 FR 66915 (December 28, 1994).

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these preliminary results of review in accordance with sections 751(a)(1) and 777(i)(1) of the Act.

Dated: March 2, 2009.
Ronald K. Lorentzen,
Acting Assistant Secretary for Import Administration.

[FR Doc. E9-4798 Filed 3-5-09; 8:45 am]

BILLING CODE 3510-DS-P